DEPARTMENT OF EDUCATION

34 CFR Part 668

RIN 1840-AD04

[Docket ID ED-2010-OPE-0012]

Program Integrity: Gainful Employment

AGENCY: Office of Postsecondary Education, Department of Education.

ACTION: Notice of public meeting sessions.

SUMMARY: The Secretary of Education (Secretary) announces public meeting sessions to receive oral presentations and to interact with commenters regarding comments that were submitted to the Department of Education in response to its Notice of Proposed Rulemaking on Program Integrity: Gainful Employment, published in the Federal Register on July 26, 2010 (75 FR 43616).

DATES: The public meeting sessions will be held on the dates and at the locations specified later in this document.

FOR FURTHER INFORMATION CONTACT: Leigh Arsenault, U.S. Department of Education, 400 Maryland Avenue, SW., Room 7E304, Washington, DC 20202. Telephone: 202-453-7127 or by e-mail: Leigh.Arsenault@ed.gov.

If you use a telecommunications device for the deaf (TDD), call the Federal Relay Service (FRS), toll free, at 1-800-877-8339.

SUPPLEMENTARY INFORMATION: On July 26, 2010, the Department published a notice of proposed rulemaking (NPRM) in the Federal Register proposing regulations for determining whether a postsecondary educational program provides training that leads to gainful employment in a recognized occupation and the conditions under which such a program would remain eligible for the student financial assistance programs authorized under title IV of the Higher Education Act of 1965, as amended (HEA). Comments on the Department's proposed regulations were due on September 9, 2010. The Department received over 90,000 comments from a wide range of stakeholders, including for-profit universities and colleges, community colleges, students, higher education associations, members of Congress, financial analysts, economists, and college and university faculty.

The Department appreciates the tremendous feedback, both positive and negative, that it received on the proposed regulations. The response from so many individuals and entities demonstrates how important the issues relating to gainful employment and this rulemaking are. To better understand parties' comments and have an opportunity to interact with commenters, the Department will hold four public meeting sessions over the course of two days. During this time, commenters who have timely submitted comments on the NPRM may orally present their comments to a panel of Department representatives. Commenters also may have an opportunity to respond to questions from the Department about their comments.

Public Meeting Dates, Times, Locations, and Registration Information

The four public meeting sessions will be held on the following dates and times at the U.S. Department of Education, Barnard Auditorium, 400 Maryland Avenue, SW., Washington, DC 20202.

Session 1: November 4, 2010, from 9 a.m. to 12 p.m.

Session 2: November 4, 2010, from 1 p.m. to 4:30 p.m.

Session 3: November 5, 2010, from 9 a.m. to 12 p.m.

Session 4: November 5, 2010, from 1 p.m. to 4:30 p.m.

Oral Presentations From Commenters

Oral presentations at the public meeting sessions will be limited only to individuals or entities that timely submitted comments on the NPRM and only to the comments the commenter submitted. No new topics or concerns may be introduced. Each commenter who is interested in making an oral presentation of comments on the NPRM will be allowed a total of five minutes. The Department will not accept any written materials from any presenter or other individual or entity attending the public meeting sessions.

If you are interested in making an oral presentation of your comments at one of the public meeting sessions, you must register at http://usdoedregistration.ed.gov/profile/web/index.cfm?PKwebID=0x3626e49. We will accept registrations at this Web site, beginning at 12 noon, Washington, DC time, on October 18, 2010, through 12 noon, Washington, DC time, on October 20, 2010. Please include in your registration the following information regarding your comments and oral presentation:

• Name of individual or entity that submitted the comments to the Department and the date the comments were submitted.

• Name of individual who will be making the oral presentation on behalf of the commenter.

• E-mail address of the individual who will be making the oral presentation.

• If available, the number assigned to your comments by http://www.regulations.gov.

• The preferred date and session for your presentation.

We will follow the following registration process for presentations for the public meeting sessions.

• Upon receipt of the information identified above, the Department will verify that it is accurate (i.e., that the individual or entity identified timely submitted a comment on the NPRM) and will send an e-mail to the commenter indicating whether the commenter has been selected to make a presentation at one of the public meeting sessions and the specific time slot reserved for that commenter's presentation.

• A commenter may make only one presentation at the public meeting sessions; the Department reserves the right to reject the registration of an entity or individual that submitted separate comments but is affiliated with a commenter that is selected to make a presentation.

• We anticipate receiving a large number of registrations from commenters for the four public meeting sessions. In addition, we are interested in hearing from a broad range of the commenters during those sessions. In the event that we receive more registrations than we are able to accommodate and to ensure a broad representation of commenters, the Department may randomly select among the registrations the commenters who will be invited to make a presentation at a session.

• We will not accept any walk-in registrations at any of the November 4 or November 5 public meeting sessions.

Public Attendance at the Meetings

The public meeting sessions are open to members of the public; however, given space constraints, we may not be able to accommodate all persons interested in attending. Members of the public interested in attending the public meeting sessions will be required to register at http://usdoedregistration.ed.gov/profile/web/index.cfm?PKwebID=0x3626e49. We will accept registrations at this Web site, beginning at 12 noon, Washington, DC time, on October 18, 2010, through 12 noon, Washington, DC time, on October 20, 2010.

Members of the public interested in attending will need to indicate in their registration the session they wish to attend. The Department will send an e-mail to the individual indicating whether the individual has been selected to attend one of the public meeting sessions. Again, we will not accept any written materials from any presenter or other individual or entity attending the public meeting sessions. We also will not accept any walk-in registrations to attend any of the public meeting sessions on November 4 or November 5.

Availability of Information From the Public Meeting Sessions

The Department is committed to gathering and sharing publicly the presentations made at these public meeting sessions. Each session will be videotaped and/or transcribed, and the video and/or transcript will be available for viewing at http://usdoedregistration.ed.gov/profile/web/index.cfm?PKwebID=0x3626e49.

Assistance to Individuals With Disabilities at the Public Meeting Sessions

The meeting sites will be accessible to individuals with disabilities and sign language interpreters will be available. If you need an auxiliary aid or service other than a sign language interpreter to participate in the session (e.g., interpreting service such as oral, cued speech, or tactile interpreter; assisted listening device; or materials in alternate format), notify the contact person listed under FOR FURTHER INFORMATION CONTACT at least two weeks before the scheduled meeting date. Although we will attempt to meet a request we receive after this date, we may not be able to make available the requested auxiliary aid or service because of insufficient time to arrange it.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: October 13, 2010.
Arne Duncan,
Secretary of Education.

[FR Doc. 2010-26180 Filed 10-15-10; 8:45 am]

BILLING CODE 4000-01-P